DEPARTMENT OF ENERGY

Southwestern Power Administration

Sam Rayburn Dam Power Rate

AGENCY: Southwestern Power Administration, DOE.

ACTION: Notice of proposed rate.

SUMMARY: Southwestern Power Administration (Southwestern) proposes to revise the existing Sam Rayburn Dam Rate Schedule to increase annual revenues by approximately 21.10% from $4,563,792 to $5,526,588 effective May 1, 2024, through September 30, 2028. Interested persons may review the proposed rate and supporting studies on Southwestern's website, request to participate in a public forum, and submit comments. Southwestern will evaluate all comments received in this process.

DATES: A consultation and comment period will begin December 5, 2023 and end March 4, 2024. Written comments are due on or before March 4, 2024. If requested, a public information and comment forum (Forum) will be held on January 17, 2024, at 2:00 p.m. to no later than 4:00 p.m. Central Standard Time (CST). The Forum will be conducted via Microsoft Teams. Persons desiring to attend the Forum should notify Southwestern by January 10, 2024, at 11:59 p.m. CST, so that a list of Forum participants can be prepared. Persons desiring to speak at the Forum should specify this in their notification to Southwestern; others may speak if time permits. If Southwestern does not receive a request for a Forum, the Forum will not be held.

ADDRESSES: Written comments should be submitted to: Fritha Ohlson, Senior Vice President, Chief Operating Officer, Office of Corporate Operations, Southwestern Power Administration, U.S. Department of Energy, One West Third Street, Tulsa, Oklahoma 74103 or emailed to swparates@swpa.gov. The Forum for the increase in annual revenue for Sam Rayburn Dam will be by Microsoft Teams. Please register your intent to attend, including name, address, phone number, and email address, with Southwestern's Division of Resources and Rates, swparates@swpa.gov, to receive updates on the meeting status of the Forum.

FOR FURTHER INFORMATION CONTACT: Ashley Corker, Director, Division of Resources and Rates, Southwestern Power Administration, U.S. Department of Energy, One West Third Street, Tulsa, Oklahoma 74103, (918) 595-6682, ashley.corker@swpa.gov.

SUPPLEMENTARY INFORMATION: On December 17, 2015, in Rate Order No. SWPA-69, the Deputy Secretary of Energy placed into effect the current Sam Rayburn Dam rate schedule (SRD-15) on an interim basis for the period January 1, 2016 to September 30, 2019. FERC confirmed and approved SRD-15 on a final basis on June 30, 2016 for a period ending September 30, 2019. On September 22, 2019, in Rate Order No. SWPA-75, the Assistant Secretary for Electricity extended SRD-15 for two years, for the period of October 1, 2019 through September 30, 2021. On August 30, 2021, in Rate Order No. SWPA-78, the Administrator, Southwestern, extended SRD-15 for two years, for the period of October 1, 2021 through September 30, 2023. On September 20, 2023, the Administrator, Southwestern, extended SRD-15 on a temporary basis through September 30, 2024, unless superseded.

Guidelines for preparation of power repayment studies are included in DOE Order No. RA 6120.2 entitled Power Marketing Administration Financial Reporting. Following these guidelines, Southwestern prepared a 2023 Current Power Repayment Study using the existing Sam Rayburn Dam Rate Schedule. This study indicates that Southwestern's legal requirement to repay the investment in the power generating facility for power and energy marketed by Southwestern will not be met without an increase in revenues. The need for increased revenues is primarily due to increased operations and maintenance costs and increased cost associated with investments and replacements in the Corps hydroelectric generating facility. Southwestern prepared a 2023 Revised Power Repayment Study to address the revenue shortfall and inform development of the proposed rate schedule. The 2023 Revised Power Repayment Study indicates that the proposed Rate Schedule will increase annual revenues approximately 21.10% from $4,563,792 to $5,526,588 and be effective from May 1, 2024, through September 30, 2028.

Southwestern will continue to perform its Power Repayment Studies annually, and if the results of any future Power Repayment Studies indicate the need for a change in revenues, Southwestern will proceed with appropriate action at that time.

Public Participation

Procedures for public participation in power and transmission rate adjustments of the Power Marketing Administrations are found at title 10, part 903, subpart A of the Code of Federal Regulations (10 CFR part 903). The proposed action is a major rate adjustment, as defined by 10 CFR 903.2(d). In accordance with 10 CFR 903.14, the public consultation and comment period is 90 days. In accordance with 10 CFR 903.15(a) and 903.16(a), Southwestern will hold a Forum for this proposed rate adjustment if requested. Southwestern will review and consider all timely public comments at the conclusion of the consultation and comment period and adjust the proposal as appropriate. The Sam Rayburn Dam Rate Schedule will then be approved on an interim basis.

Legal Authority

By Delegation Order No. S1-DEL-RATES-2016, effective November 19, 2016, the Secretary of Energy delegated: (1) the authority to develop power and transmission rates to Southwestern's Administrator; (2) the authority to confirm, approve, and place such rates into effect on an interim basis to the Deputy Secretary of Energy; and (3) the authority to confirm, approve, and place into effect on a final basis, or to remand or disapprove such rates, to FERC. By Delegation Order No. S1-DEL-S3-2023, effective April 10, 2023, the Secretary of Energy also delegated the authority to confirm, approve, and place such rates into effect on an interim basis to the Under Secretary for Infrastructure. By Redelegation Order No. S3-DEL-SWPA1-2023, effective April 10, 2023, the Under Secretary for Infrastructure redelegated the authority to confirm, approve, and place such rates into effect on an interim basis to the Administrator, Southwestern.

Availability of Information

The 2023 Sam Rayburn Dam Power Repayment Studies and the proposed Sam Rayburn Dam Rate Schedule are available on Southwestern's website at: https://www.energy.gov/swpa/rate-schedule-actions. At the conclusion of the consultation and comment period, Southwestern will post all comments received at the same website location. If a Forum is held, the transcript of the Forum and any other documents introduced during the Forum will also be made available on Southwestern's website.

Environmental Impact

Southwestern is in the process of determining whether an environmental assessment or an environmental impact statement should be prepared or if this action can be categorically excluded from those requirements.¹

¹ In compliance with the National Environmental Policy Act (NEPA) of 1969, as amended, 42 U.S.C. 4321-4347; the Council on Environmental Quality Regulations for implementing NEPA (40 CFR parts 1500-1508); and DOE NEPA Implementing Procedures and Guidelines (10 CFR part 1021).

Determination Under Executive Order 12866

Southwestern has an exemption from centralized regulatory review under Executive Order 12866; accordingly, no clearance of this notice by the Office of Management and Budget is required.

Signing Authority

This document of the Department of Energy was signed on November 28, 2023, by Mike Wech, Administrator for Southwestern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of DOE. This administrative process in no way alters the legal effect of this document upon publication in the Federal Register.

Signed in Washington, DC, on November 30, 2023.
Treena V. Garrett,
Federal Register Liaison Officer, U.S. Department of Energy.

[FR Doc. 2023-26629 Filed 12-4-23; 8:45 am]

BILLING CODE 6450-01-P